DEPARTMENT OF TRANSPORTATION

Surface Transportation Board

[Docket No. FD 35530]

Arkansas Midland Railroad Company, Inc., Trackage Rights Exemption; Caddo Valley Railroad Company

Pursuant to a written trackage rights agreement, Caddo Valley Railroad Company (CVR) has agreed to grant local trackage rights to Arkansas Midland Railroad Company, Inc. (AKMD) over approximately 2.57 miles of CVR's rail line, known as the Gurdon Segment, extending between a connection with Union Pacific Railroad Company (UP) at milepost 426.88 in Gurdon, Ark. and milepost 429.5 north of Gurdon.¹

¹ AKMD states that the mileposts of the Gurdon Segment are slightly changed in this transaction from those listed in the emergency service proceeding involving the same line. See Ark. Midland R.R.—Alternative Rail Service—Caddo Valley R.R., FD 35416 (STB served Sept. 17, 2010, Oct. 15, 2010, and Feb. 11, 2011). Specifically, the connection with UP at Gurdon is a technical correction of one-hundredth of a mile based on AKMD's physical observation, and at the other end of the segment, the milepost has been shortened to exclude trackage and an attendant grade crossing that was not needed or used for any rail service purpose.

The earliest this transaction may be consummated is July 7, 2011, the effective date of the exemption (30 days after the exemption was filed), unless otherwise ordered by the Board.²

² On June 7, 2011, AKMD concurrently filed a petition requesting that the Board allow this trackage rights transaction to become effective on June 15, 2011, the day after AKMD's current emergency service authority expires on the Gurdon Segment, rather than on July 7. That request will be addressed in a separate Board decision.

The purpose of the transaction is to allow AKMD to continue to provide rail service on the Gurdon Segment pending transfer of the line to AKMD.

Under 49 U.S.C. 10502(g), the Board may not use its exemption authority to relieve a rail carrier of its statutory obligation to protect the interests of its employees. Section 11326(c), however, does not provide for labor protection for transactions under §§ 11324 and 11325 that involve only Class III rail carriers. Accordingly, the Board may not impose labor protective conditions here, because all of the carriers involved are Class III carriers.

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to Docket No. FD 35530, must be filed with the Surface Transportation Board, 395 E Street, SW., Washington, DC 20423-0001. In addition, a copy of each pleading must be served on Thomas J. Litwiler, Fletcher & Sippel LLC, 29 North Wacker Drive, Suite 920, Chicago, IL 60606.

Board decisions and notices are available on our Web site at “http://www.stb.dot.gov.”

Decided: June 8, 2011.
By the Board, Rachel D. Campbell, Director, Office of Proceedings.
Jeffrey Herzig,
Clearance Clerk.

[FR Doc. 2011-14558 Filed 6-13-11; 8:45 am]

BILLING CODE 4915-01-P